DEPARTMENT OF AGRICULTURE

Cooperative State Research, Education, and Extension Service; Request for Proposals: Initiative for Future Agriculture and Food Systems, FY 2000

AGENCY: Cooperative State Research, Education and Extension Service.

ACTION: Notice; Clarification, Revision and Addition to Request for Proposals, and Extension of Date for Submission.

SUMMARY: The Cooperative State Research, Education, and Extension Service (CSREES) published a request for proposals document for the Initiative for Future Agriculture and Food Systems (IFAFS) in the Federal Register on March 6, 2000 (65 FR 11838). This document clarifies the nature of proposals sought, adds a new program sub-area, extends the date for receipt of proposals, and makes certain specific revisions to the request for proposals contained in the original notice.

DATES: The original notice provided that proposals for the IFAFS must be submitted by May 8, 2000. That date is extended to May 22, 2000. All other requirements for submittal of proposals remain the same as those specified in the notice of March 6, 2000.

ADDRESSES: The addresses for submission of proposals remain the same as those specified in the notice of March 6, 2000.

FOR FURTHER INFORMATION: For further clarification of the intent of this notice, contact Dr. Cynthia Huebner, Assistant Director, IFAFS, Cooperative State Research, Education, and Extension Service; U.S. Department of Agriculture; STOP 2242; telephone: (202) 401-4114; email: chuebner@reeusda.gov.

SUPPLEMENTARY INFORMATION: On March 6, 2000, CSREES published a request for proposals for the IFAFS (65 FR 11838). CSREES wishes to clarify the types of proposals it seeks, revise certain portions of the request for proposals, and add a new program area for funding. Revisions to the original request for proposals made herein have been incorporated in full in the copy of the IFAFS request for proposals available on the CSREES website at www.reeusda.gov/IFAFS.

In General

Programs within IFAFS can bring the agricultural knowledge system to bear on issues impacting small- and mid-sized producers and land managers, enabling improvements in quality of life and community. Thus, applicants are encouraged to address issues impacting small and mid-sized operations in each IFAFS program area as appropriate. In support of the agency's goals to enhance the competitiveness and sustainability of U.S. agriculture, consideration also will be given to projects (with U.S. institutions as the lead) that incorporate an international dimension with demonstrable domestic benefits. Proposals should reflect substantial involvement of agricultural producers, nutrition and health professionals, individuals and groups concerned with the environment, or other stakeholders or their representative organizations, in project planning, design, and implementation.

In the Agricultural Genomics program area (10.0) of the request for proposals, emphasis was placed on research focusing on economically important species, genes, or traits. CSREES wishes to clarify that it will accept proposals related to all agriculturally important species, genes, or traits, regardless of their economic importance or value. Accordingly, the terms “economic” and “economically” have been stricken from the version of the request for proposals available on the CSREES website consistent with this statement as appropriate.

Revisions

In the notice of request for proposals for the IFAFS published on March 6, 2000 (65 FR 11838), make the following revisions.

On page 11839, in the third column, revise the definitions of “Education activity” and “Extension activity” to read as follows:

(7) Education activity means formal classroom instruction, laboratory instruction, and practicum experience in the food and agricultural sciences and other related matters such as faculty development, student recruitment and services, curriculum development, instructional materials and equipment, and innovative teaching methodologies.

(8) Extension activity means an act or process that delivers science-based knowledge and informal educational programs to people, enabling them to make practical decisions.

On page 11844, second column, under “2. Agricultural Biotechnology (Program Area 11.0),” revise the second and third full paragraphs to read as follows:

Successful application of this technology to food and agriculture requires a sufficient level of consumer acceptance of biotechnology-derived products to provide economic incentive to product developers. Consumer acceptance is currently affected by doubts about biotechnology in food and agriculture. Research and education focused on assessing and reducing present and predicted risks associated with agricultural biotechnology will aid in alleviating public concerns. For example, developing and implementing effective on-farm practices to address issues such as pest resistance and adverse non-target species impact (e.g. pollen drift concerns) will provide critical information to farmers and the general public. Mechanisms for increasing public awareness of the benefits, as well as the risks, of biotechnology-derived products are needed to provide consumers, farmers, regulators, and policymakers with the facts they need to make informed decisions about production, use, regulation and trade of biotechnology-derived foods and products.

This program area will support research, extension, and education that addresses public questions and concerns associated with agricultural biotechnology by assessing, reducing, and developing monitoring strategies for present and anticipated risks. The program will maximize knowledge and understanding of both risks and benefits accrued to the public from products derived through biotechnology.

On page 11844, third column, under “11.1 Effects Agricultural Biotechnology on Human, Animal and Plant Health,” first full paragraph:

(1) Revise the beginning of the paragraph to read: “Research, extension, and education activities regarding the effects of genetically modified (GM) organisms and GM food on human, animal, and plant health, include but are not limited to:”; and

(2) Revise clause (f) to read as follows: “techniques to minimize or eliminate potential negative impacts of GM products on non-target species, agricultural systems and the environment;”.

On page 11845, first column, third full paragraph, second sentence, add after “public interest”: “, producer,”.

On page 11848, second column, first full paragraph, strike the parenthetical phrase referring to the Food Quality and Protection Act in clause (d).

New Program Sub-Area

CSREES adds a new program sub-area soliciting proposals related to Critical and Emerging Pest Management Challenges as follows.

On page 11847, in the second column:

(1) Revise the first heading in the column to read: “5. Natural Resource Management, Including Precision Agriculture and Critical and Emerging Pest Management Challenges (Program Area 14.0)”; and

(2) Add before the period at the end of the second full paragraph under that heading: “and critical and emerging pest management challenges”.

On page 11849, second column, add the following new program sub-area before the heading, “5. Farm Efficiency and Profitability,” as follows:

14.5 Critical and Emerging Pest Management Challenges

(For clarification of this program area, contact the Program Director, Dennis Kopp, at (202) 401-6437; e-mail: dkopp@reeusda.gov.)

Recent, more stringent regulations, such as the Food Quality Protection Act (FQPA), new provisions of the Clean Air Act, and new pesticide re-registration actions under the Federal Insecticide, Fungicide and Rodenticide Act, will contribute to the loss or significant restriction of pesticides and pesticide uses. Commodities that are heavily consumed by infants and children and commodities that are reliant on a few classes of chemicals for pest control are particularly vulnerable. Problems related to the loss or restriction of current pest management tools are exacerbated by pest resistance, consumer demand for safer foods, and lack of effective alternatives. New conventional chemistries and biological, biotechnological and organic farming techniques offer the promise of new, safe and effective alternatives. New technologies, however, are more complex requiring a higher degree of management and may require a significant investment in user education and training. Therefore, comprehensive science-based approaches are needed for the development and implementation of new pest management technologies.

CSREES has or is initiating a number of programs to address the impact of FQPA on crops production systems. These programs include, the Pest Management Alternatives Program (PMAP), and the following programs in the new integrated Research, Education and Extension Competitive Grants Program: Crops at Risk from FQPA Implementation (CAR), Risk Avoidance and Mitigation Program (RAMP), and Methyl Bromide Transition (MBT). IFAFS provides an opportunity to bring together concepts from the above mentioned programs by supporting proposals that are more comprehensive in nature and have multi-tactical approaches to pest management systems.

Proposals are invited on broad systems that go beyond the scope of the Integrated and PMAP pest management programs. Proposals for this section should support integrated research, education and extension on regional or national systems and approaches that will provide pest management strategies for at-risk production systems. In addition, proposals should identify and assess ways to reduce actual or potential adverse human health, occupational and/or environmental effects. Wherever possible, proposals should include multi-state and multidisciplinary partnerships with producers, industry, other stakeholders groups and the research, education and extension community.

Done at Washington, D.C., this 28th day of March, 2000.
Charles W. Laughlin,
Administrator, Cooperative State Research, Education, and Extension Service.

[FR Doc. 00-8235 Filed 3-30-00; 8:45 am]

BILLING CODE 3410-22-P